DEPARTMENT OF TRANSPORTATION

Federal Aviation Administration

14 CFR Part 73

RIN 2120-AA66

[Docket No. FAA-2003-15410; Airspace Docket No. 03-AAL-1]

Establishment of Restricted Area 2204, Oliktok Point; AK

ACTION: Notice of proposed rulemaking (NPRM).

SUMMARY: This action proposes to establish a restricted area (R-2204) in the vicinity of Oliktok Point, AK, as part of a Department of Energy (DOE) initiative. The DOE has requested the establishment of this airspace to support its Mixed-Phased Arctic Clouds experiment. This experiment utilizes a moored balloon which will fly up to 7,000 feet mean sea level (MSL). This proposed action supports the DOE, Sandia National Laboratories, National Nuclear Security Administration, climate research project.

DATES: Comments must be received on or before December 8, 2003.

ADDRESSES: Send comments on this proposal to the Docket Management System, Department of Transportation, Room Plaza 401, 400 Seventh Street, SW., Washington, DC 20590-0001. You must identify “FAA Docket No. FAA-2003-15529, and Airspace Docket No. 03-AAL-01,” at the beginning of your comments. You may also submit comments on the Internet at http://dms.dot.gov.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2003-15529, and Airspace Docket No. 03-ANM-03) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2003-15410, and Airspace Docket No. 03-AAL-1.” The postcard will be date/time stamped and returned to the commenter. All communications received on or before the specified closing date for comments will be considered before taking action on the proposed rule. The proposal contained in this action may be changed in light of comments received.

All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see address in “Comments Invited” section) between 9 a.m. and 5 p.m., Monday through Friday, except Federal holidays. An informal docket may also be examined during normal business hours at the office of the Regional Air Traffic Division, Federal Aviation Administration, 222 West 7th Avenue, #14, Anchorage, AK 99513.

Persons interested in being placed on a mailing list for future NPRM's should call the FAA's Office of Rulemaking, (202) 267-9677, for a copy of Advisory Circular No. 11-2A, Notice of Proposed Rulemaking Distribution System, which describes the application procedure.

History

The DOE is conducting the Mixed-Phased Arctic Clouds experiment to improve understanding of the process and uncertainties related to global climate change. The information obtained at this test site will be combined with information from a broad range of climates from other sites. The knowledge gained through these sites will provide a more credible prediction of global climate change.

The Proposal

The FAA is proposing an amendment to Title 14 Code of Federal Regulations (CFR) part 73 (part 73) to establish R-2204 at Oliktok Point, AK, as part of the DOE Mixed-Phased Arctic Clouds experiment. The proposed airspace would be established northeast of Oliktok Point, AK, and would consist of a two nautical mile (nm) area radius from the surface up to but not including 7,000 feet MSL. The proposed area would contain an instrumented, moored balloon on a two-kilometer, unlighted cable for the purpose of collecting air samples during instrument flight conditions. The proposed area would be activated starting October 2004 for approximately 30 days a year, and be effective through the year 2009. The area would be activated by NOTAM 24 hours in advance. The restricted area is necessary for safety reasons.

Section 73.22 of Part 73 of the Federal Aviation Regulations was republished in FAA Order 7400.8K dated September 26, 2002.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subject to the appropriate environmental analysis in accordance with FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.22 [Amended]

2. § 73.22 is amended as follows:

* * * * *

R-2204, Oliktok Point, AK [New]

Boundaries. Within a 2 nautical mile radius centered at (lat. 70°30′35″ N., long. 149°51′33″ W.).

Designated altitudes. Surface to, but not including, 7,000 feet MSL.

Time of designation. By NOTAM, 24 hours in advance, not to exceed 30 days annually.

Controlling agency. FAA, Anchorage ARTCC.

Using agency. Department of Energy, Sandia National Labs/National Nuclear Security Administration, Albuquerque, NM.

* * * * *

Issued in Washington, DC, on September 17, 2003.
Reginald C. Matthews,
Manager, Airspace and Rules Division.

[FR Doc. 03-25422 Filed 10-7-03; 8:45 am]

BILLING CODE 4910-13-P